NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by May 26, 2022. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Polly Penhale, ACA Permit Officer, at the above address, 703-292-8030.

SUPPLEMENTARY INFORMATION: The National Science Foundation, as directed by the Antarctic Conservation Act of 1978 (Pub. L. 95-541, 45 CFR 671), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2023-001

1. Applicant: Michelle Shero, 266 Woods Hole Rd., Woods Hole, MA 02543.

Activity for Which Permit is Requested: Take, Harmful Interference, Import into USA, Export From USA. The applicant requests an Antarctic Conservation Permit authorizing activities associated marine mammal research in Antarctica. Proposed research activities involve conducting physiological studies on Weddell seals (Leptonychotes weddellii) in Erebus Bay, McMurdo Sound, to determine factors that contribute to lifetime reproductive success and overall fitness. The applicant would capture, and handle 26 adult-pup pairs each year over the course of the reproductive cycle. Adult Weddell seals will be handled 5 times per season at different points in their reproductive cycle and pups will be handled 3 times between parturition and post-weaning each year. Each capture will involve sedation, health exams, sample collection, ultrasound and possibly the deployment of dive instruments. Sampling procedures include blood and tissue sampling, weighing, flipper tagging, ultrasound and taking of morphometric measurements. The applicant also proposes importing and any salvaged tissue or scat collected opportunistically during research activities.

Location: Erebus Bay, McMurdo Sound, Antarctica.

Dates of Permitted Activities: October 2, 2022-September 30, 2027.

Erika N. Davis,
Program Specialist, Office of Polar Programs.

[FR Doc. 2022-08883 Filed 4-25-22; 8:45 am]

BILLING CODE 7555-01-P